DEPARTMENT OF COMMERCE

International Trade Administration

[A-552-801]

Certain Frozen Fish Fillets From the Socialist Republic of Vietnam: Notice of Partial Rescission of the Fifth Antidumping Duty Administrative Review

AGENCY: Import Administration, International Trade Administration, Department of Commerce.

Summary: The Department of Commerce (“Department”) is conducting an administrative review of the antidumping duty order on certain frozen fish fillets from the Socialist Republic of Vietnam (“Vietnam”). See Notice of Antidumping Duty Order: Certain Frozen Fish Fillets From the Socialist Republic of Vietnam, 68 FR 47909 (August 12, 2003) (“Order”). On September 30, 2008, the Department initiated an antidumping duty administrative review on certain frozen fish fillets from Vietnam. See Initiation of Antidumping and Countervailing Duty Administrative Reviews and Requests for Revocation in Part, 73 FR 56795 (September 30, 2008). The Department initiated this review with respect to 18 companies. The period of review is August 1, 2007, through July 31, 2008. The preliminary results of this administrative review are currently due no later than May 3, 2009. On October 30, 2008, Vinh Quang Fisheries Corporation withdrew its request for review. On December 22, 2008, Anvifish Co., Ltd. (“Anvifish”) withdrew its request for a review. On October 17, 2008, Petitioners ¹ withdrew their request for review with respect to 12 companies, including Vinh Quang Fisheries Corporation. Following Anvifish's withdrawal, on December 23, 2008, Petitioners withdrew their request for review with respect to Anvifish.

¹ The Catfish Famers of America and individual U.S. catfish processors, America's Catch, Consolidated Catfish Companies, LLC dba Country Select Catfish, Delta Pride Catfish, Inc., Harvest Select Catfish, Inc., Heartland Catfish Company, Pride of the Pond, Simmons Farm Raised Catfish, Inc., and Southern Pride Catfish Company LLC (“Petitioners”).

EFFECTIVE DATE: April 30, 2009.

FOR FURTHER INFORMATION CONTACT: Alan Ray and Javier Barrientos, Office 9, AD/CVD Operations, Import Administration, International Trade Administration, U.S. Department of Commerce, 14th Street and Constitution Avenue, NW., Washington, DC 20230; telephone: (202) 482-5403 and (202) 482-2243, respectively.

Partial Rescission of Review

The applicable regulation, 19 CFR 351.213(d)(1), states that if a party that requested an administrative review withdraws the request within 90 days of the publication of the notice of initiation of the requested review, the Secretary will rescind the review. Petitioners withdrew their review request with respect to 13 exporters of subject merchandise within the 90-day deadline, in accordance with 19 CFR 351.213(d)(1). Respondents Vinh Quang Fisheries Corporation and Anvifish also withdrew their respective requests for review within the 90-day deadline.

Therefore, we are partially rescinding this review with respect to the following 13 companies, because all requesting parities for these companies timely withdrew the requests for review: An Xuyen Co., Ltd.; Asia Commerce Fisheries Joint Stock Company (aka Acomfish JSC); Ben Tre Forestry Aquaproduct Import-Export Company (aka FAQUIMEX); Binh An Seafood Joint Stock Co.; Hiep Thanh Seafood Joint Stock Co.; Hung Vuong Corporation; Nam Viet Company Limited (aka NAVICO); Phuong Nam Co., Ltd.; Da Nang Seaproducts Import-Export Corporation (aka Da Nang or Seaprodex Danang); Southern Fishery Industries Company, Ltd. (aka South Vina); Thien Ma Seafood Co., Ltd.; Vinh Quang Fisheries Corporation; and Anvifish Co., Ltd.

Assessment Rates

The Department will instruct U.S. Customs and Border Protection (“CBP”) to assess antidumping duties on all appropriate entries. For those companies for which this review has been rescinded and which have a separate rate from a prior segment of this proceeding, antidumping duties shall be assessed at rates equal to the cash deposit of estimated antidumping duties required at the time of entry, or withdrawal from warehouse, for consumption, in accordance with 19 CFR 351.212(c)(2). Accordingly, the Department intends to issue appropriate assessment instructions directly to CBP 15 days after publication of this notice for the following companies: Binh An Seafood Joint Stock Co.; Phuong Nam Co., Ltd.; Da Nang or Seaprodex Danang Southern Fishery Industries Company, Ltd.; Vinh Quang Fisheries Corporation; and Anvifish Co., Ltd.

The Department cannot order liquidation for companies which, although they are no longer under review as a separate entity, may still be under review as part of the Vietnam-wide entity. Therefore, the Department cannot, at this time, order liquidation of entries for the following companies: An Xuyen Co., Ltd.; Acomfish JSC; FAQUIMEX; Hiep Thanh Seafood Joint Stock Co.; Hung Vuong Corporation; NAVICO; or Thien Ma Seafood Co., Ltd. The Department intends to issue liquidation instructions for the Vietnam-wide entities 15 days after publication of the final results of this review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: April 24, 2009.
John M. Andersen,
Acting Deputy Assistant Secretary for Antidumping and Countervailing Duty Operations.

[FR Doc. E9-9999 Filed 4-29-09; 8:45 am]

BILLING CODE 3510-DS-S